DEPARTMENT OF THE INTERIOR

National Indian Gaming Commission

Notice of Cancellation of the Environmental Impact Statement for the Proposed Big Sandy Casino and Resort, Fresno County, CA

AGENCY: National Indian Gaming Commission, Interior.

ACTION: Notice.

SUMMARY: This notice advises the public that the National Indian Gaming Commission (NIGC) is no longer participating in the preparation of the Environmental Impact Statement (EIS) for the Big Sandy Casino and Resort to be located in Fresno County, CA. The NIGC's federal action that was being evaluated was approval of a management contract between the Big Sandy Rancheria of Mono Indians (Tribe) and QBS, LLC. On October 19, 2007 and at the request of the Tribe, the management contract approval request was deemed withdrawn. As a result, the NIGC no longer has a federal action that requires compliance with NEPA and is therefore no longer participating in the preparation of the EIS for the Big Sandy Casino and Resort.

DATES: Effective Immediately.

ADDRESSES: Questions regarding this notice should be addressed to: Brad Mehaffy, NEPA Compliance Officer, National Indian Gaming Commission, 1441 L Street, NW., Suite 9100, Washington, DC 20005 (or) fax to: Brad Mehaffy at 202-632-7066 (this is not a toll free call).

FOR FURTHER INFORMATION CONTACT: Brad Mehaffy, (202) 632-7003.

SUPPLEMENTARY INFORMATION: The NIGC issued a Notice of Intent to prepare and EIS on August 12, 2005, in the Federal Register (70 FR 47262). The notice included project details.

Dated: April 2, 2008.
Philip N. Hogen,
Chairman, National Indian Gaming Commission.

[FR Doc. E8-7766 Filed 4-10-08; 8:45 am]

BILLING CODE 7565-01-P